DEPARTMENT OF TRANSPORTATION

Federal Aviation Administration

14 CFR Parts 61, 63, and 65

[Docket No. FAA-2022-1463; Amdt. No. 65-64A]

RIN 2120-AL74

Airman Certification Standards and Practical Test Standards for Airmen; Incorporation by Reference

AGENCY: Federal Aviation Administration (FAA), Department of Transportation (DOT).

ACTION: Final rule; correction.

SUMMARY: On April 1, 2024, the Federal Aviation Administration (FAA) published a final rule in the Federal Register to incorporate certain Airman Certification Standards and Practical Test Standards by reference into the certification requirements for pilots, flight instructors, flight engineers, aircraft dispatchers, and parachute riggers. In that final rule, the FAA incorrectly set forth certain regulatory text which, if not corrected, would remove certain content from the Code of Federal Regulations the FAA did not intend to remove. This correction remedies the error.

DATES: Effective on May 31, 2024.

ADDRESSES: For information on where to obtain copies of rulemaking documents and other information related to this final rule, see “How to Obtain Additional Information” in the SUPPLEMENTARY INFORMATION section of this document.

FOR FURTHER INFORMATION CONTACT: James Ciccone, Training and Certification Group, AFS-810, Federal Aviation Administration, 800 Independence Avenue SW, Washington, DC 20591; telephone (202) 267-1100; email ACSPTSinquiries@faa.gov.

SUPPLEMENTARY INFORMATION: On April 1, 2024, the Federal Aviation Administration (FAA) published the final rule, Airman Certification Standards and Practical Test Standards for Airmen; Incorporation by Reference.¹ That final rule adopted several amendments to parts 61, 63, and 65 of Title 14 of the Code of Federal Regulations (14 CFR) by incorporating by reference (IBR) the Airman Certification Standards (ACS) and Practical Test Standards (PTS). The ACS and PTS ² serve as the testing standards for airman certificates and rating practical tests. Among other things, the final rule revised § 65.119(a) to require compliance with the respective PTS for parachute riggers. However, the FAA inadvertently set forth only the revisions to the introductory text of paragraph (a) and did not address the undesignated paragraph at the end of paragraph (a). The FAA is correcting this error by setting forth the entirety of paragraph (a) and designating the currently-undesignated paragraph at the end of paragraph (a) as paragraph (a)(3).

¹ 89 FR 22482 FR Doc 2024-06644.

² ACS and PTS refers to both the singular Standard and the plural Standards throughout the document.

Correction

Effective May 31, 2024, in rule document 2024-06644 at 89 FR 22482 in the issue of April 1, 2024, on page 22520, in the third column, in amendatory instruction 16, paragraph a is corrected to read as follows:

§ 65.119 [Corrected]

* * * * *

(a) Present evidence satisfactory to the Administrator that the applicant has had at least 3 years of experience as a parachute rigger and has satisfactorily packed at least 100 parachutes of each of two types in common use, in accordance with the manufacturer's instructions—

(1) While a certificated and appropriately rated senior parachute rigger; or

(2) While under the supervision of a certificated and appropriately rated parachute rigger or a person holding appropriate military ratings.

(3) An applicant may combine experience specified in paragraphs (a)(1) and (2) of this section to meet the requirements of this paragraph (a).

* * * * *

Issued under authority provided by 49 U.S.C. 106(f), 40113, 44701, 44702, and 44703 in Washington, DC.
Brandon Roberts,
Executive Director, Office of Rulemaking.

[FR Doc. 2024-08631 Filed 4-19-24; 8:45 am]

BILLING CODE 4910-13-M